DEPARTMENT OF TRANSPORTATION

Federal Highway Administration

Supplemental Final Environmental Impact Statement; Graham County, NC

AGENCY: Federal Highway Administration (FHWA), Department of Transportation.

ACTION: Notice of Intent.

SUMMARY: The FHWA is issuing this notice to advise the public that a Supplemental Final Environmental Impact Statement (Supp. FEIS) will be prepared for the proposed relocation of U.S. 74 from U.S. 129 in Robbinsville to NC 28 in Stecoah, Graham County, North Carolina. The proposed project would be the construction of a four-lane divided highway approximately 11 miles in length. This project is identified as TIP Project No. A-9 B&C.

FOR FURTHER INFORMATION CONTACT: Mr. Clarence W. Coleman, P.E., Operations Engineer, Federal Highway Administration, 310 New Bern Avenue, Suite 410, Raleigh, North Carolina 27601-1418, telephone: (919) 856-4350, Extension 133.

SUPPLEMENTARY INFORMATION: The proposed relocation is part of the North Carolina Department of Transportation (NCDOT) Transportation Improvement Program (TIP) Project No. A-9, which includes four different relocation projects, identified as TIP Project Nos. A-9 A, B, C, & D. The “A” portion of the project begins in Cherokee County with a proposed terminus in Andrews and extends into Graham County with a proposed terminus in Robbinsville. The proposed relocation from Robbinsville to Stecoah is the “B & C” portion of the project. The “D” portion of the project begins in Stecoah and extends east into Swain County, terminating in Almond; most of this segment is complete.

An FEIS for the entire A-9 project was completed in 1984. Federal regulations impose a three-year restriction, commencing from the time a document is signed, for action to be taken on a project. If action is not taken within this period, a reevaluation of the FEIS is required. The Supp. FEIS will serve as this reevaluation (40 CFR 1502.9). The FEIS identified a Preferred Corridor for the entire A, B, C, & D corridor from Andrews to Almond. A reevaluation was completed for A-9D (a widening project), while A-9 A, B, & C (the new location portion) was subject to further analysis due to the project's potential impacts. The Supp. FEIS and its associated technical memorandum (indirect and cumulative effects report, air analysis, noise analysis, etc.) are being prepared only for the B & C portion of the project. The A portion of the project is currently unfunded. The project includes a tunnel under Stecoah Gap where an easement will be obtained from the U.S. Forest Service. The project corridor follows the existing NC 143 alignment in some areas; however, the majority of the project is on new location, as is the area through Stecoah Gap. The project also includes several new stream crossings including a bridge over Stecoah Creek.

The purpose of this project is to improve the US 74 corridor throughout the state providing better system linkage, economic and social development, highway capacity, and safety resulting in road user savings from a more efficient highway facility. It will also provide better accessibility with highway connections for Graham County. The proposed US 74 relocation is part of the Appalachian Development Highway System (ADHS), which would complete a missing link in the Appalachian Highway Corridor K. In summary, the purpose of the ADHS is to improve the economic conditions of the region by providing the infrastructure necessary for economic and human resource development.

A scoping letter was sent to federal and state resource agencies on December 5, 1995, and an interagency scoping meeting held on January 4, 1996. Additional interagency meetings were held on July 31, 1996, December 9, 1999, January 20, 2004, and September 19, 2006. An interagency meeting is currently scheduled for August 14, 2007. Public involvement has occurred for this project. The first Citizens Informational Workshop was held in two locations to accommodate interests at each end of the entire ABC project study area. The first workshop was held on March 11, 1996, at the Robbinsville High School in Robbinsville; the second was held at the Andrews Community Center in Andrews. The second Citizens Informational Workshop was also held in two locations on subsequent days. The workshop in Robbinsville was held October 28, 1996, at the Robbinsville High School; the second on October 29, 1996, at the Andrews Community Center in Andrews. The third Citizens Informational Workshop was also held on subsequent days in Robbinsville and Andrews. The workshop in Robbinsville was held March 14, 2000, at the Robbinsville High School; the second on March 15, 2000, at the Andrews Community Center in Andrews. The most recent Citizens Informational Workshop was held on November 28, 2006, at the Graham County Community Building in Robbinsville. Local Officials Meetings were held immediately before the Citizens Informational Workshops with the exception of the November 28, 2006, workshop.

To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: July 19, 2007.
Clarence W. Coleman,
P.E., Operations Engineer, Raleigh, North Carolina.

[FR Doc. E7-14352 Filed 7-24-07; 8:45 am]

BILLING CODE 4910-22-P